DEPARTMENT OF TRANSPORTATION

Federal Highway Administration

Rescinding the Notice of Intent To Prepare Environmental Impact Statement: South Kohala, Hawaii

AGENCY: Federal Highway Administration (FHWA), DOT.

ACTION: Notice to rescind notice of intent (NOI) to prepare an environmental impact statement (EIS).

SUMMARY: The FHWA is issuing this notice to advise the public that the FHWA is rescinding its NOI and will not be preparing an EIS to evaluate alternatives to realign and/or widen an existing highway in South Kohala in the County of Hawaii. An NOI to prepare an EIS was published in the Federal Register on November 29, 2002.

FOR FURTHER INFORMATION CONTACT: Ralph Rizzo, Division Administrator, Federal Highway Administration, 300 Ala Moana Boulevard, Box 50206, Honolulu, Hawaii 96850, Telephone: (808) 541-2700.

SUPPLEMENTARY INFORMATION: The FHWA, in cooperation with the State of Hawaii Department of Transportation (HDOT), initiated an EIS with an NOI published in the Federal Register on November 29, 2002, at 67 FR 71231, to prepare an EIS.

The study area begins near the intersection of Mud Lane and the Hawaii Belt Road (State Route 19) and terminates along Mamalahoa Highway (State Route 190) near the Waimea-Kohala Airport. The study also included a 1.7 mile spur to connect with Lindsey Road. Improvements were considered necessary to improve highway safety and reduce congestion, while preserving the character and ambience of the historic Waimea village. The Project would impact a sizable number of historic and archaeological resources due to the sheer number of archaeological sites identified during the survey. Avoidance of all these sites would be difficult and may not be feasible. Also, the County recently completed intersection improvements on the existing highway that improved congestion. Finally, the cost for the estimated right-of-way and construction would likely be substantial because of limited funding availability. Therefore, HDOT has decided not to proceed with the project and the preparation of the EIS is being terminated.

(Catalog of Federal Domestic Assistance Program Number 20.205, Highway Planning and Construction. The regulations implementing Executive Order 12372 regarding intergovernmental consultation on Federal programs and activities apply to this program.)

(Authority: 23 U.S.C. 139, 23 CFR 771, and 40 CFR 1500-1508)

Issued on: May 29, 2020.
Ralph Rizzo,
Division Administrator, Honolulu, HI.

[FR Doc. 2020-12115 Filed 6-4-20; 8:45 am]

BILLING CODE 4910-RY-P